DEPARTMENT OF HEALTH AND HUMAN SERVICES

Administration for Children and Families

Proposed Information Collection Activity; Culture of Continuous Learning Project: Case Study of a Breakthrough Series Collaborative for Improving Child Care and Head Start Quality (New Collection)

AGENCY: Office of Planning, Research, and Evaluation, Administration for Children and Families, U.S. Department of Health and Human Services.

ACTION: Request for public comments.

SUMMARY: The Office of Planning, Research, and Evaluation (OPRE), Administration for Child and Families (ACF) is proposing an information collection activity for the Culture of Continuous Learning Project (CCL). The goal of the project is to assess the feasibility of implementing continuous quality improvement methods in early care and education (ECE) programs and systems to support the use and sustainability of evidence-based practices.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The CCL project is proposing a new information collection activity to assess the feasibility of implementing continuous quality improvement methods in ECE programs and systems to support the use and sustainability of evidence-based practices. Three Breakthrough Series Collaboratives (BSCs), a specific quality improvement model designed to support the implementation of continuous quality improvement methods in organizations, will be implemented in Head Start and child care settings. The BSC methodology has been studied extensively in health care and other fields but has limited evidence as an effective quality improvement methodology in the early childhood field. The findings will be of broad interest to ECE programs as well as training and technical assistance providers and researchers, all of whom are interested in improving the quality of services young children receive.

Head Start and child care programs that voluntarily participate in the BSCs will be asked to complete a number of tools designed to facilitate implementation of the BSC. The implementation of the BSCs will be evaluated using a case study design that will involve focus groups, interviews, surveys, and classroom observations. To fully capture participants' experiences in the BSCs, the implementation and evaluation instruments are designed to engage respondents one to three times during a twelve-month period, depending on the instrument. The goal of the case study is to document the factors that contribute to the feasibility of BSC implementation within a state quality improvement system (e.g., a state quality rating and improvement system) and/or a regional professional development or technical assistance system (e.g., a region within a state, or a cross-state region such as Head Start regional technical assistance areas) such that we can refine hypotheses and study measures which will be useful in the design of an evaluation for a future study of BSCs in ECE systems. The case study will also help determine what additional capacity ECE systems may need to adopt the BSC methodology and offer it within their system at a larger scale.

Respondents: Up to 45 ECE programs will be invited to complete an application to participate in a BSC and up to five people per program will be involved in completing the application. Up to eight programs will be selected to participate in one of three BSCs, for a total of up to 24 programs. Within each program, up to seven individuals (e.g., directors, lead teachers, assistant teachers, teacher aides, parents, curriculum specialists, etc.) will participate in the implementation of the BSC, meaning that up to 168 individuals will participate. Respondents will also include additional teachers (up to 114), program staff (up to 96), and parents (up to 2,136) located at participating Head Start and child care programs where a BSC is implemented but who are not members of the BSC Team.

Annual Burden Estimates
Instrument | Number of respondents (total over request period) | Number of responses per respondent (total over request period) | Avg. burden per response (in hours) | Total burden (in hours) | Annual burden (in hours)
BSC Implementation Instruments
Instrument 1: BSC Selection Application Questionnaire | 225 | 1 | 1.5 | 338 | 169
Instrument 2: Pre-Work Assignment: Data Collection Planning Worksheet | 48 | 1 | 2 | 96 | 48
Instrument 3: Plan, Do, Study, Act (PDSA) Form & Tracker | 168 | 34 | 0.25 | 1,428 | 714
Instrument 4: Monthly Metrics | 48 | 8 | 1.5 | 576 | 288
Instrument 5: Implementation Discussion Forum Prompts | 168 | 34 | 0.25 | 1,428 | 714
Instrument 6: Learning Session Feedback Form | 168 | 4 | 0.25 | 168 | 84
Instrument 7: Action Planning Form | 168 | 4 | 0.25 | 168 | 84
Instrument 8: BSC Overall Feedback Form | 168 | 1 | 0.25 | 42 | 21
Instrument 9: Organizational Self-Assessment | 168 | 5 | 1.5 | 1,260 | 630
BSC Case Study Instruments
Instrument 10: Key informant interviews with BSC faculty members who are affiliated with the state/region | 9 | 1 | 1 | 9 | 5
Instrument 11: Focus groups with BSC implementation staff and faculty who are not affiliated with the state/region | 30 | 2 | 1.5 | 90 | 45
Instrument 12: Surveys with BSC implementation staff and faculty | 30 | 1 | 0.17 | 5 | 3
Instrument 13: Key informant interviews with center administrators who are members of BSC teams | 24 | 2 | 1 | 48 | 24
Instrument 14: Focus groups with center teachers/support staff who are members of BSC teams | 120 | 2 | 1.5 | 360 | 180
Instrument 15: Focus groups with parents who are members of BSC teams | 24 | 2 | 1.5 | 72 | 36
Instrument 16: Focus groups with individual BSC teams | 168 | 2 | 1.5 | 504 | 252
Instrument 17a: Administrator surveys | 24 | 3 | 0.5 | 36 | 18
Instrument 17b: Teacher surveys | 240 | 3 | 0.5 | 360 | 180
Instrument 17c: Other center staff surveys | 96 | 3 | 0.5 | 144 | 72
Instrument 17di: Non-BSC parent surveys | 2,136 | 2 | 0.5 | 2,136 | 1,068
Instrument 17dii: BSC parent surveys | 24 | 3 | 0.5 | 36 | 18
Instrument 18: Classroom observations | 48 | 3 | 0.33 | 48 | 24
Instrument 19: Administrative data survey | 24 | 4 | 0.5 | 48 | 24

Estimated Total Annual Burden Hours: 4,701.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act § 640 [42 U.S.C. 9835] and 649 [42 U.S.C. 9844]; appropriated by the Continuing Appropriations Act of 2019. Child Care and Development Block Grant Act of 1990 as amended by the CCDBG Act of 2014 (Pub. L. 113-186).

Mary B. Jones,
ACF/OPRE Certifying Officer.

[FR Doc. 2022-19549 Filed 9-9-22; 8:45 am]

BILLING CODE 4184-2-P